DEPARTMENT OF ENERGY

Environmental Management Site-Specific Advisory Board, Savannah River Site Meeting

AGENCY: Department of Energy.

ACTION: Notice of open meeting.

SUMMARY: This notice announces a meeting of the Environmental Management Site-Specific Advisory Board (EM SSAB), Savannah River Site. The Federal Advisory Committee Act (Pub. L. 92-463, 86 Stat. 770) requires that public notice of this meeting be announced in the Federal Register.

DATES:

Monday, November 16, 2015, 1:00 p.m.-5:30 p.m.

Tuesday, November 17, 2015, 8:30 a.m.-4:30 p.m.

ADDRESSES: New Ellenton Community Center, 212 Pine Hill Avenue, New Ellenton, SC 29809.

FOR FURTHER INFORMATION CONTACT: de'Lisa Carrico, Office of External Affairs, Department of Energy, Savannah River Operations Office, P.O. Box A, Aiken, SC 29802; Phone: (803) 952-8607.

SUPPLEMENTARY INFORMATION: Purpose of the Board: The purpose of the Board is to make recommendations to DOE-EM and site management in the areas of environmental restoration, waste management, and related activities.

Tentative Agenda:

Monday, November 16, 2015

1:00 p.m. Opening and Agenda Review

1:20 p.m. Work Plan Update

1:30 p.m. Combined Committees Session

Order of committees:

• Facilities Disposition & Site Remediation

• Administrative & Outreach

• Nuclear Materials

• Waste Management

• Strategic & Legacy Management

5:15 p.m. Public Comments

5:30 p.m. Adjourn

Tuesday, November 17, 2015

8:30 a.m. Opening, Chair Update, and Agenda Review

8:55 a.m. Agency Updates

10:00 a.m. Public Comments

10:15 a.m. Break

10:30 a.m. Facilities Disposition & Site Remediation Committee Report

11:30 a.m. Public Comments

11:45 a.m. Lunch Break

1:15 p.m. Waste Management Committee Report

2:15 p.m. Administrative & Outreach Committee Report

2:30 p.m. Break

2:45 p.m. Nuclear Materials Committee Report

3:30 p.m. Strategic & Legacy Management Committee Report

4:15 p.m. Public Comments

4:30 p.m. Adjourn

Public Participation: The EM SSAB, Savannah River Site, welcomes the attendance of the public at its advisory committee meetings and will make every effort to accommodate persons with physical disabilities or special needs. If you require special accommodations due to a disability, please contact de'Lisa Carrico at least seven days in advance of the meeting at the phone number listed above. Written statements may be filed with the Board either before or after the meeting. Individuals who wish to make oral statements pertaining to agenda items should contact de'Lisa Carrico's office at the address or telephone listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling de'Lisa Carrico at the address or phone number listed above. Minutes will also be available at the following Web site: http://cab.srs.gov/srs-cab.html.

Issued at Washington, DC on October 16, 2015.
LaTanya R. Butler,
Deputy Committee Management Officer.

[FR Doc. 2015-26853 Filed 10-21-15; 8:45 am]

BILLING CODE 6450-01-P